DEPARTMENT OF STATE

[Delegation of Authority No. 535]

Delegation to the Under Secretary of State for Political Affairs for Country Reports on Terrorism

By virtue of the authority vested in the Secretary of State by the laws of the United States, including section 1(a)(4) of the State Department Basic Authorities Act (22 U.S.C. 2651a(a)(4)), I hereby delegate to the Under Secretary of State for Political Affairs the functions and authorities related to the annual country reports on terrorism under section 140 of the Foreign Relations Authorization Act, Fiscal Years 1988 and 1989 (22 U.S.C. 2656f).

The Secretary, Deputy Secretary, and Deputy Secretary for Management and Resources may also exercise any function or authority delegated herein. Any reference in this delegation of authority to a statute shall be deemed to be a reference to such statute as amended from time to time and shall be deemed to apply to any provision of law that is the same or substantially the same as such statute.

This delegation of authority does not repeal any other delegation of authority currently in effect. This delegation of authority will be published in the Federal Register.

Dated: January 6, 2023.
Antony J. Blinken,
Secretary of State.

[FR Doc. 2023-01484 Filed 1-24-23; 8:45 am]

BILLING CODE 4710-AD-P